NUCLEAR REGULATORY COMMISSION

Sunshine Act Meeting

Agency Holding the Meeting: Nuclear Regulatory Commission.

Dates: Weeks of December 4, 11, 18, 25, 2000, January 1, and 8, 2001.

Place: Commissioners' Conference Room, 11555 Rockville Pike, Rockville, Maryland.

Status: Public and Closed.

Matters to be Considered:

Weeks of December 4

Monday, December 4, 2000

1:55 p.m.

Affirmation Session (Public Meeting)

a: Final Rule Amending the Fitness-for-Duty Rule (Tentative)

2:00 p.m.

Briefing on License Renewal Generic Aging Lessons Learned (GALL) Report, Standard Review Plan (SRP), and Regulatory Guide (Public Meeting) (Contact: Chris Grimes, 301-415-1183)

This meeting will be webcast live at the Web address— www.nrc.gov/live.html

Week of December 11—Tentative

There are no meetings scheduled for the Week of December 11.

Week of December 18—Tentative

Wednesday, December 20, 2000

9:25 a.m.

Affirmation Session (Public Meeting) (If needed)

9:30 a.m.

Briefing on the Status on the Fuel Cycle Facility Oversight Program Revision (Public Meeting) (Contact: Walt Schwink, 301-415-7253)

This meeting will be webcast live at the Web address— www.nrc.gov/live.html

Week of December 25—Tentative

There are no meetings scheduled for the Week of December 25.

Week of January 1, 2001—Tentative

There are no meetings scheduled for the Week of January 1, 2001.

Week of January 8, 2001—Tentative

Tuesday, January 9, 2001

9:30 a.m.

Briefing on EEO Program (Public Meeting)

Wednesday, January 10, 2001

9:25 a.m.

Affirmation Session (Public Meeting) (If needed)

9:30 a.m.

Briefing on Status on Nuclear Waste Safety (Public Meeting)

This meeting will be webcast live at the Web address— www.nrc.gov/live.html

The Schedule for Commission meeting is subject to change on short notice. To verify the status of meetings call (Recording)—(301) 415-1292.

Contact person for more information: Bill Hill (301) 415-1661.

* * * * *

Additional Information: By a vote of 5-0 on November 27, the Commission determined pursuant to U.S.C. 552b(e) and § 9.107(a) of the Commission's rules that “Affirmation of POWER AUTHORITY OF THE STATE OF NEW YORK ENTERGY COMPANIES, Transfer of licenses for Indian Point 3 and FitzPatrick nuclear plants, Petitions to Intervene” be held on November 27, and on less than one week's notice to the notice.

By a vote of 5-0 on November 27, the Commission determined pursuant to U.S.C. 552b(e) and § 9.107(a) of the Commission's rules that “Affirmation of FLORIDA POWER & LIGHT CO., License Renewal Application for Turkey Point Units 3 and 4; Licensing Board Referral and Scheduling Order” be held on November 27, and on less than one week's notice to the public.

* * * * *

The NRC Commission Meeting Schedule can be found on the Internet at http://www.nrc.gov/SECY/smj/schedule.htm

* * * * *

This notice is distributed by mail to several hundred subscribers; if you no longer wish to receive it, or would like to be added to it, please contact the Office of the Secretary, Attn: Operations Branch, Washington, DC 20555 (301-415-1661). In addition distribution of this meeting notice over the Internet system is available. If you are interested in receiving this Commission meeting schedule electronically, please send an electronic message to wmh@nrc.gov or dkw@nrc.gov.

Dated: December 1, 2000.
William M. Hill, Jr.,
SECY Tracking Officer, Office of the Secretary.

[FR Doc. 00-31154 Filed 12-4-00; 12:19 pm]

BILLING CODE 7590-01-M